Order of September 17, 2003

Designation Under Executive Order 12958

Consistent with the provisions of section 1.3 of Executive Order 12958 of April 17, 1995, as amended, entitled “Classified National Security Information,” I hereby designate the Director of the Office of Science and Technology Policy to classify information originally as “Top Secret.”

Any delegation of this authority shall be in accordance with section 1.3(c) of Executive Order 12958, as amended.

This order shall be published in the Federal Register.

B

THE WHITE HOUSE,

September 17, 2003.

[FR Doc. 03-24218

Filed 9-22-03; 11:38 am]

Billing code 3195-01-P